DEPARTMENT OF ENERGY

Federal Energy Regulatory Commission

Combined Notice of Filings #1

Take notice that the Commission received the following electric rate filings:

Docket Numbers: ER22-799-001.

Applicants: Lancaster Area Battery Storage, LLC.

Description: Tariff Amendment: Lancaster Area Battery Storage, LLC MBR Tariff to be effective 1/11/2022.

Filed Date: 2/2/22.

Accession Number: 20220202-5094.

Comment Date: 5 p.m. ET 2/23/22.

Docket Numbers: ER22-969-000.

Applicants: Pacific Gas and Electric Company.

Description: Notice of Cancellation of Service Agreement No. 70 with Soledad Energy, LLC of Pacific Gas and Electric Company.

Filed Date: 2/1/22.

Accession Number: 20220201-5245.

Comment Date: 5 p.m. ET 2/22/22.

Docket Numbers: ER22-970-000.

Applicants: PJM Interconnection, L.L.C.

Description: § 205(d) Rate Filing: Original WMPA, Service Agreement No. 6356; Queue No. AG2-205 to be effective 1/5/2022.

Filed Date: 2/2/22.

Accession Number: 20220202-5030.

Comment Date: 5 p.m. ET 2/23/22.

Docket Numbers: ER22-971-000.

Applicants: Southwest Power Pool, Inc.

Description: § 205(d) Rate Filing: 3909 Rocking R Solar GIA to be effective 1/21/2022.

Filed Date: 2/2/22.

Accession Number: 20220202-5043.

Comment Date: 5 p.m. ET 2/23/22.

Docket Numbers: ER22-972-000.

Applicants: KODE Novus I, LLC.

Description: Tariff Amendment: KODE Novus I, SFA Cancellation Filing to be effective 2/3/2022.

Filed Date: 2/2/22.

Accession Number: 20220202-5053.

Comment Date: 5 p.m. ET 2/23/22.

Docket Numbers: ER22-973-000.

Applicants: KODE Novus II, LLC.

Description: Tariff Amendment: KODE Novus II LLC MBR Cancellation Filing to be effective 2/3/2022.

Filed Date: 2/2/22.

Accession Number: 20220202-5054.

Comment Date: 5 p.m. ET 2/23/22.

Docket Numbers: ER22-974-000.

Applicants: KODE Novus I, LLC.

Description: Tariff Amendment: KODE Novus I, MBR Cancellation Filing to be effective 2/3/2022.

Filed Date: 2/2/22.

Accession Number: 20220202-5056.

Comment Date: 5 p.m. ET 2/23/22.

Docket Numbers: ER22-975-000.

Applicants: Southwest Power Pool, Inc.

Description: § 205(d) Rate Filing: Tariff Clean-Up Filing Effective 20220301 to be effective 3/1/2022.

Filed Date: 2/2/22.

Accession Number: 20220202-5063.

Comment Date: 5 p.m. ET 2/23/22.

Docket Numbers: ER22-976-000.

Applicants: PJM Interconnection, L.L.C.

Description: § 205(d) Rate Filing: Amendment to WMPA, SA No. 6023; Queue No. AE1-109 (amend) to be effective 4/6/2021.

Filed Date: 2/2/22.

Accession Number: 20220202-5068.

Comment Date: 5 p.m. ET 2/23/22.

Docket Numbers: ER22-977-000.

Applicants: Niagara Mohawk Power Corporation, New York Independent System Operator, Inc.

Description: § 205(d) Rate Filing: Niagara Mohawk Power Corporation submits tariff filing per 35.13(a)(2)(iii): NYISO-National Grid joint 205 Amended and Restated SGIA2576 Sky High Solar to be effective 1/19/2022.

Filed Date: 2/2/22.

Accession Number: 20220202-5083.

Comment Date: 5 p.m. ET 2/23/22.

Docket Numbers: ER22-978-000.

Applicants: NorthWestern Corporation.

Description: Formula Rate 2021 Post-employment Benefits Other than Pensions filing of NorthWestern Corporation (Montana).

Filed Date: 1/28/22.

Accession Number: 20220128-5513.

Comment Date: 5 p.m. ET 2/18/22.

Docket Numbers: ER22-979-000.

Applicants: Appalachian Power Company.

Description: § 205(d) Rate Filing: OATT—Revise Attachment K, AEP Texas Inc. Rate Update to be effective 12/31/9998.

Filed Date: 2/2/22.

Accession Number: 20220202-5092.

Comment Date: 5 p.m. ET 2/23/22.

Docket Numbers: ER22-980-000.

Applicants: Southwestern Electric Power Company.

Description: § 205(d) Rate Filing: SWEPCO-NTEC Long Glade & Tiller Tap Delivery Point Agreements to be effective 4/4/2022.

Filed Date: 2/2/22.

Accession Number: 20220202-5100.

Comment Date: 5 p.m. ET 2/23/22.

Docket Numbers: ER22-981-000.

Applicants: Southwestern Electric Power Company.

Description: § 205(d) Rate Filing: SWEPCO-NTEC Avinger Amended Delivery Point Agreement to be effective 4/4/2022.

Filed Date: 2/2/22.

Accession Number: 20220202-5101.

Comment Date: 5 p.m. ET 2/23/22.

Docket Numbers: ER22-982-000.

Applicants: PJM Interconnection, L.L.C.

Description: Tariff Amendment: Notice of Cancellation of ISA, SA No. 5319; Queue No. AB2-015 re: Withdrawal to be effective 3/4/2022.

Filed Date: 2/2/22.

Accession Number: 20220202-5102.

Comment Date: 5 p.m. ET 2/23/22.

Docket Numbers: ER22-983-000.

Applicants: ISO New England Inc., New England Power Pool Participants Committee.

Description: Compliance filing: ISO New England Inc. submits tariff filing per 35: ISO-NE/NEPOOL; Rev. to Allow Participation of DER Aggregations in NE Markets to be effective 11/1/2022.

Filed Date: 2/2/22.

Accession Number: 20220202-5123.

Comment Date: 5 p.m. ET 2/23/22.

Docket Numbers: ER22-984-000.

Applicants: American Electric Power Service Corporation, AEP Ohio Transmission Company, Inc., Appalachian Power Company, Indiana Michigan Power Company, Kentucky Power Company, Kingsport Power Company, Ohio Power Company, Wheeling Power Company, PJM Interconnection, L.L.C.

Description: § 205(d) Rate Filing: American Electric Power Service Corporation submits tariff filing per 35.13(a)(2)(iii: AEPSC Power Factor Pilot Program filing to add Att. 5 to SA 1336 to be effective 2/3/2022.

Filed Date: 2/2/22.

Accession Number: 20220202-5162.

Comment Date: 5 p.m. ET 2/23/22.

Docket Numbers: ER22-985-000.

Applicants: KODE Novus I, LLC.

Description: Tariff Amendment: KODE Novus I SFA Cancellation Filing to be effective 2/3/2022.

Filed Date: 2/2/22.

Accession Number: 20220202-5167.

Comment Date: 5 p.m. ET 2/23/22.

Docket Numbers: ER22-986-000.

Applicants: KODE Novus I, LLC.

Description: Tariff Amendment: KODE Novus I MBR Cancellation to be effective 2/3/2022.

Filed Date: 2/2/22.

Accession Number: 20220202-5168.

Comment Date: 5 p.m. ET 2/23/22.

Docket Numbers: ER22-987-000.

Applicants: KODE Novus II, LLC.

Description: Tariff Amendment: KODE Novus II MBR Cancellation Filing to be effective 2/3/2022.

Filed Date: 2/2/22.

Accession Number: 20220202-5170.

Comment Date: 5 p.m. ET 2/23/22.

Take notice that the Commission received the following electric securities filings:

Docket Numbers: ES22-28-000.

Applicants: Morongo Transmission, LLC.

Description: Application Under Section 204 of the Federal Power Act for Authorization to Issue Securities of Morongo Transmission, LLC.

Filed Date: 2/1/22.

Accession Number: 20220201-5244.

Comment Date: 5 p.m. ET 2/22/22

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2022.
Debbie-Anne A. Reese,
Deputy Secretary.

[FR Doc. 2022-02611 Filed 2-7-22; 8:45 am]

BILLING CODE 6717-01-P